DEPARTMENT OF TRANSPORTATION

Federal Highway Administration

[Docket No. FHWA-2024-0053]

Agency Information Collection Activities: Request for Comments for a New Information Collection

AGENCY: Federal Highway Administration (FHWA), DOT.

ACTION: Notice and request for comments.

SUMMARY: The FHWA has forwarded the information collection request described in this notice to the Office of Management and Budget (OMB) to approve a new information collection. We are required to publish this notice in the Federal Register by the Paperwork Reduction Act of 1995.

DATES: Please submit comments by August 16, 2024.

ADDRESSES: You may submit comments identified by DOT Docket ID Number 0053 by any of the following methods:

Website: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Julie Johnston, (202) 591-5858, Office of Preconstruction, Construction and Pavements, Federal Highway Administration, Department of Transportation, 1200 New Jersey Avenue SE, Washington, DC 20590. Office hours are from 7 a.m. to 4 p.m., Monday through Friday, except Federal holidays.

SUPPLEMENTARY INFORMATION: We published a Federal Register Notice with a 60-day public comment period on this information collection on May 9, 2024, at [89 FR 39679]. The comments and FHWA's responses are below:

The document was published for a 60-day notice in the Federal Register. The document citation is 89 FR 39679. There were seventeen (17) comments during this comment period, many of which were identical. In summary, each comment stated how important the Value Engineering Program is and the data collection is an important part of demonstrating good stewardship of public funds. Each comment encouraged the continuation of the data collection, and that the data shows that the Value Engineering program is effective.

FHWA acknowledges these comments.

Several commenters encouraged FHWA to collect more data, and to ask OMB to reinstate all federal agencies reporting associated with OMB Circular A-131. One commenter stated that they would like to have access to data reported by other states.

In an effort to reduce the burden on state DOT's, FHWA streamlined the data collection process to highlight the cost expended, cost savings and return on investment that comes from Value Engineering. All state's data is available on FHWA's Value Engineering website for public review https://www.fhwa.dot.gov/ve/vereport.cfm. Commenters are encouraged to reach out to OMB about reinstating OMB Circular A-131.

Two commenters suggested that FHWA develop an electronic database that allows for the entry of the requested information and allow this database to be viewable by the public so that they can compare data.

In 2023, FHWA created an electronic form for state DOT's to input their annual data. This form populates the summary information that is available to the public on FHWA's Value Engineering website. This information is sortable by state, fiscal year, costs, and a number of other factors. Users can also download this information in to a PDF for their use.

Title: Annual Value Engineering Call for Data.

Background: Value Engineering (VE) is defined as a systematic process of review and analysis of a project, during the concept and design phases, by a multidiscipline team of persons not involved in the project, that is conducted to provide recommendations for providing the needed functions safely, reliably, efficiently, and at the lowest overall cost; improving the value and quality of the project; and reducing the time to complete the project. Applicable projects requiring a VE analysis include Projects on the National Highway System (NHS) receiving Federal assistance with an estimated total cost of $50,000,000 or more; Bridge projects on the NHS receiving Federal assistance with an estimated total cost of $40,000,000 or more; any major project, as defined in 23 U.S.C. 106(h), located on or off the NHS, that utilizes Federal-aid highway funding in any contract or phase; and other projects as defined in 23 CFR 627.5. 23 U.S.C. 106(e)(4)(iv) and 23 CFR 627.7(3) require States to monitor, evaluate, and annually submit a report that describes the results of the value analyses that are conducted, and the recommendations implemented on applicable projects. The FHWA annually submits a National Call for VE Data in order to monitor and assess the VE Program and meet the requirements of 23 U.S.C. 106(h).

Respondents: 52, including 50 State Transportation Departments, the District of Columbia, the Commonwealth of Puerto Rico.

Frequency: Annually.

Estimated Average Burden per Response: Approximately 2 hours per participant over a year.

Estimated Total Annual Burden Hours: Approximately 104 hours per year.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued on: July 11, 2024.
Jazmyne Lewis,
Information Collection Officer.

[FR Doc. 2024-15638 Filed 7-16-24; 8:45 am]

BILLING CODE 4910-22-P